INTERNATIONAL TRADE COMMISSION

[USITC SE-19-037]

Sunshine Act Meetings

Agency Holding the Meeting: United States International Trade Commission.

TIME AND DATE: October 31, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 731-TA-1422 and 1423 (Final) (Strontium Chromate from Austria and France). The Commission is currently scheduled to complete and file its determinations and views of the Commission by November 21, 2019.

5. Vote on Inv. Nos. 701-TA-454 and 731-TA-1144 (Second Review) and 731-TA-1210-1212 (Review) (Welded Stainless Steel Pressure Pipe from China, Malaysia, Thailand, and Vietnam). The Commission is currently scheduled to complete and file its determinations and views of the Commission by November 14, 2019.

6. Vote on Inv. No. 731-TA-1021 (Third Review) (Malleable Iron Pipe Fittings from China). The Commission is currently scheduled to complete and file its determination and views of the Commission by November 21, 2019.

7. Outstanding action jackets: None.

The Commission is holding the meeting under the Government in the Sunshine Act, 5 U.S.C. 552(b). In accordance with Commission policy, subject matter listed above, not disposed of at the scheduled meeting, may be carried over to the agenda of the following meeting.

By order of the Commission.
Issued: October 21, 2019.
William Bishop,
Supervisory Hearings and Information Officer.

[FR Doc. 2019-23292 Filed 10-22-19; 11:15 am]

BILLING CODE 7020-02-P